DEPARTMENT OF ENERGY

Unconventional Resources Technology Advisory Committee

AGENCY: Office of Fossil Energy, Department of Energy.

ACTION: Notice of open meeting.

This notice announces a meeting of the Unconventional Resources Technology Advisory Committee. Federal Advisory Committee Act (Pub. L. 92-463, 86 Stat. 770) requires that notice of these meetings be announced in the Federal Register.

DATES: Tuesday, January 29, 2008: 8 a.m. to 12 p.m.—Open Session; 12 p.m. to 1 p.m.—Lunch; and 1 p.m. to 5 p.m.—Open Session.

ADDRESSES: Crowne Plaza Houston North Greenspoint, 425 N. Sam Houston Parkway East, Houston, TX 77060.

FOR FURTHER INFORMATION CONTACT: Elena Melchert or Bill Hochheiser, U.S. Department of Energy, Office of Oil and Natural Gas, Washington, DC 20585. Phone: 202-586-5600.

SUPPLEMENTARY INFORMATION: Purpose of the Committee: The purpose of the Unconventional Resources Technology Advisory Committee is to provide advice on development and implementation of programs related to onshore unconventional natural gas and other petroleum resources to the Secretary of Energy; and provide comments and recommendations and priorities for the Department of Energy Annual Plan requirements of the Energy Policy Act of 2005, Subtitle J, Section 999.

Tentative Agenda:

7:30 a.m.-8 a.m. Registration.

8 a.m.-12 p.m. Welcome & Introductions, Opening Remarks by the Designated Federal Officer, Update Status of the 2007 Program, Overview of 2008 Annual Plan Draft, and Overview of the National Energy Technology Laboratory Complementary Research Program.

12 p.m.-1 p.m. Lunch.

1 p.m.-4 p.m. Committee Discussions.

4 p.m.-4:30 p.m. New Business: Plans for 2008-2010 Federal Advisory Committee.

4:30 p.m.-5 p.m. Public Comments.

5 p.m. Adjourn.

Public Participation: The meeting is open to the public. The Designated Federal Officer, the Chairman of the Committee, and a Facilitator will lead the meeting for the orderly conduct of business. If you would like to file a written statement with the Committee, you may do so either before or after the meeting. If you would like to make oral statements regarding any of the items on the agenda, you should contact Elena Melchert or Bill Hochheiser at the address or telephone number listed above. You must make your request for an oral statement at least five business days prior to the meeting, and reasonable provisions will be made to include the presentation on the agenda. Public comment will follow the 10 minute rule.

Minutes: The minutes of this meeting will be available for public review and copying within 60 days at the Freedom of Information Public Reading Room, Room 1E-190, Forrestal Building, 1000 Independence Avenue, SW., Washington, DC, between 9 a.m. and 4 p.m., Monday through Friday, except federal holidays.

Issued at Washington, DC, on January 7, 2008.
Rachel Samuel,
Deputy Committee Management Officer.

[FR Doc. E8-331 Filed 1-10-08; 8:45 am]

BILLING CODE 6450-01-P